ENVIRONMENTAL PROTECTION AGENCY

[FRL -9919-94-OEI]

Agency Information Collection Activities OMB Responses

AGENCY: Environmental Protection Agency (EPA).

ACTION: Notice.

SUMMARY: This document announces the Office of Management and Budget (OMB) responses to Agency Clearance Requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Courtney Kerwin (202) 566-1669, or email at kerwin.courtney@epa.gov and please refer to the appropriate EPA Information Collection Request (ICR) Number.

SUPPLEMENTARY INFORMATION:

OMB Responses to Agency Clearance Requests

OMB Approvals

EPA ICR Number 2380.02; Renewable Fuels Standard Program (RFS2-Supplemental) (Renewal); 40 CFR part 80, and 40 CFR 80.1450(b)(1) and 80.1450(b)(2) ; was approved on 10/20/2014; OMB Number 2060-0637; expires on 10/31/2017; Approved with change.

EPA ICR Number 2333.03; Renewable Fuels Standard (RFS2) (Renewal); 40 CFR part 80, subpart M; was approved on 10/20/2014; OMB Number 2060-0640; expires on 10/31/2017; Approved with change.

EPA ICR Number 2060.07; Cooling Water Intake Structures at Existing Facilities (Final Rule); 40 CFR parts 122 and 125; was approved on 10/15/2014; OMB Number 2040-0257; expires on 10/31/2017; Approved with change.

Comment Filed

EPA ICR Number 1907.08; Recordkeeping and Reporting Requirements Regarding the Sulfur Content of Motor Vehicle Gasoline Under the Tier 2 Rule (40 CFR part 80, subpart H) (Proposed Rule for Tier 3)); in 40 CFR part 80, subpart O; and 40 CFR 80.210; 80.270; 80.330; 80.340; 80.370; 80.380; 80.400; and 80.415. OMB filed comment on 10/28/2014.

Courtney Kerwin,
Acting Director, Collections Strategies Division.

[FR Doc. 2015-00242 Filed 1-9-15; 8:45 am]

BILLING CODE 6560-50-P